DEPARTMENT OF COMMERCE

National Oceanic and Atmospheric Administration

RIN: 0648-XE74

New England Fishery Management Council; Public Meeting

AGENCY: National Marine Fisheries Service (NMFS), National Oceanic and Atmospheric Administration (NOAA), Commerce.

ACTION: Notice of public meeting.

SUMMARY: The New England Fishery Management Council's (Council) Groundfish Committee will meet to consider actions affecting New England fisheries in the exclusive economic zone (EEZ).

DATES: The meeting will be held on Thursday, January 17, 2008, at 9 am.

ADDRESSES: The meeting will be held at the Holiday Inn, One Newbury Street, Peabody, MA 01960; telephone: (978) 535-4600.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Council's Groundfish Oversight Committee (Committee) will meet to continue development of Amendment 16 to the Northeast Multispecies Fishery Management Plan. The Committee will resume its discussion of suggestions from the National Marine Fisheries Service for sector policies. Issues expected to be addressed include, but are not limited to, universal sector exemptions, where possible; how to address monitoring sectors pertaining to the Eastern U.S./Canada total allowable catches (TACs); crediting catch history; monitoring catch locations, and a possible delay of sector implementation until fishing year 2010. The Committee may also address other sector policy issues, but will not revisit permit history baseline decisions made at the meeting on December 12-13, 2007. The Committee will also begin development of a process for setting Annual Catch Limits (ACLs), as required by the Magnuson-Stevens Act. This discussion will include not only the administrative process (such as how often ACLs will be reviewed), but will consider the technical details for setting ACLs. Issues that are likely to be discussed include, but are not limited to, accounting for catches of groundfish in other fisheries (e.g. yellowtail flounder in the scallop fishery, cod catches in state waters fisheries, etc.), and allowing for uncertainty in assessments and management. Committee recommendations will be forwarded to the Council for action at a future date.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: December 27, 2007.
Tracey L. Thompson,
Acting Director, Office of Sustainable Fisheries, National Marine Fisheries Service.

[FR Doc. E7-25437 Filed 12-31-07; 8:45 am]

BILLING CODE 3510-22-S